GENERAL SERVICES ADMINISTRATION

[Notice-MA-2019-01; Docket No. 2018-0002, Sequence No. 30]

2019 Privately Owned Vehicle (POV) Mileage Reimbursement Rates; 2019 Standard Mileage Rate for Moving Purposes

AGENCY: Office of Government-wide Policy (OGP), General Services Administration (GSA).

ACTION: Notice of Federal Travel Regulation (FTR) Bulletin 19-03, Calendar Year (CY) 2019 Privately Owned Vehicle (POV) Mileage Reimbursement Rates and Standard Mileage Rate for Moving Purposes (Relocation Allowances).

SUMMARY: GSA is updating the mileage reimbursement rate for privately owned vehicles (POV) as required by statute. This information will be available in FTR Bulletin 19-03, which can be found on GSA's website at www.gsa.gov/mileage.

DATES: Applicability date: This notice applies to travel and relocation performed on or after January 1, 2019 through December 31, 2019.

FOR FURTHER INFORMATION CONTACT: For clarification of content, please contact Mr. Cy Greenidge, Office of Government-wide Policy, Office of Asset and Transportation Management, at 202-219-2349, or by email at travelpolicy@gsa.gov. Please cite Notice of FTR Bulletin 19-03.

SUPPLEMENTARY INFORMATION: GSA is required by statute to set the mileage reimbursement rate for privately owned automobiles (POA) as the single standard mileage rate established by the Internal Revenue Service (IRS). In addition, the IRS mileage rate for medical or moving purposes is used to determine the POA rate when a Government-furnished automobile is authorized. This IRS rate also establishes the standard mileage rate for moving purposes as it pertains to official relocation. Finally, GSA's annual privately owned airplane and motorcycle mileage reimbursement rate reviews have resulted in new CY 2019 rates. GSA conducts independent airplane and motorcycle studies that evaluate various factors, such as the cost of fuel, the depreciation of the original vehicle costs, maintenance and insurance, and/or by applying consumer price index data. FTR Bulletin 19-03 establishes and announces the new CY 2019 POV mileage reimbursement rates for official temporary duty and relocation travel ($0.58 per mile for POAs, $0.20 per mile for POAs when a Government furnished automobile is authorized, $1.26 per mile for privately owned airplanes, $0.55 per mile for privately owned motorcycles, and $0.20 per mile for moving purposes), pursuant to the process discussed above. This notice of subject bulletin is the only notification to agencies of revisions to the POV mileage rates for official travel, and relocation, other than the changes posted on GSA's website.

GSA posts the POV mileage reimbursement rates, formerly published in 41 CFR Chapter 301, solely on the internet at www.gsa.gov/mileage. Also posted on this site is the standard mileage rate for moving purposes. This process, implemented in FTR Amendment 2010-07, 75 FR 72965 (November 29, 2010), FTR Amendment 2007-03, 72 FR 35187 (June 27, 2007), and FTR Amendment 2007-06, 72 FR 70234 (December 11, 2007), ensures more timely updates regarding mileage reimbursement rates by GSA for federal employees who are on official travel or relocating. Notices published periodically in the Federal Register, such as this one, and the changes posted on the GSA website, now constitute the only notification to federal agencies of revisions to the POV mileage reimbursement rates and the standard mileage reimbursement rate for moving purposes.

Dated: December 18, 2018.
Jessica Salmoiraghi,
Associate Administrator, Office of Government-wide Policy.

[FR Doc. 2018-27789 Filed 12-21-18; 8:45 am]

BILLING CODE 6820-14-P